DEPARTMENT OF HEALTH AND HUMAN SERVICES

Centers for Medicare and Medicaid Services

42 CFR Part 484

Home Health Services

CFR Correction

In Title 42 of the Code of Federal Regulations, Part 482 to End, revised as of October 1, 2018, on page 167, in § 484.115, in paragraphs (a)(1) introductory text and (a)(2) introductory text, “January 13, 2017” is corrected to read “January 13, 2018”.

[FR Doc. 2019-09854 Filed 5-10-19; 8:45 am]

BILLING CODE 1301-00-D